DEPARTMENT OF THE INTERIOR

Fish and Wildlife Service

Information Collection Renewal Submitted to the Office of Management and Budget (OMB) for Approval Under the Paperwork Reduction Act; OMB Control Number 1018-0095; Endangered and Threatened Wildlife, 50 CFR 17.84, Experimental Populations

AGENCY: Fish and Wildlife Service, Interior.

ACTION: Notice; request for comments.

SUMMARY: In accordance with the Paperwork Reduction Act of 1995, the Fish and Wildlife Service (We/Service) is requesting OMB to extend an existing approval to collect information on some experimental populations of threatened and endangered wildlife, as described below. We will use the information that we collect to monitor the success of reintroduction efforts and recovery efforts in general.

DATES: You must submit comments on or before November 29, 2004.

ADDRESSES: Send your comments on this information collection renewal to the Desk Officer for the Department of the Interior at OMB-OIRA at (202) 395-6566 (fax) or at OIRA_Docket@OMB.eop.gov (e-mail). Please provide a copy of your comments to Hope Grey, Information Collection Clearance Officer, Fish and Wildlife Service, 4401 North Fairfax Drive, MS 222-ARLSQ, Arlington, Virginia 22203 (mail); (703) 358-2269 (fax); or hope_grey@fws.gov (e-mail).

FOR FURTHER INFORMATION CONTACT: To request a copy of the information collection requirement or explanatory information, contact Hope Grey, Information Collection Clearance Officer, at the address or fax number listed above or by telephone at (703) 358-2482.

SUPPLEMENTARY INFORMATION: We have sent a request to OMB to renew approval of the information collection requirements for Endangered and Threatened Wildlife, Experimental Populations. Currently we have approval from OMB to collect information under OMB Control Number 1018-0095, which expires on October 31, 2004. We are requesting a 3-year term of approval for this information collection activity. Federal agencies may not conduct or sponsor and a person is not required to respond to a collection of information unless it displays a currently valid OMB control number. OMB regulations at 5 CFR 1320, which implement provisions of the Paperwork Reduction Act of 1995 (44 U.S.C. 3501 et seq.), require that interested members of the public and affected agencies have an opportunity to comment on information collection and recordkeeping activities (see 5 CFR 1320.8(d)). Following our submittal, OMB has up to 60 days to approve or disapprove our information collection renewal; however, they may respond as early as 30 days after our submittal. Therefore, to ensure consideration, send your comments and suggestions to OMB by the date listed in the DATES section near the beginning of this notice.

On July 29, 2004, we published a 60-day notice on this information collection requirement in the Federal Register (69 FR 45341) and invited public comment. The comment period ended on September 27, 2004. We received one comment from an individual who opposed collecting depredation information from certain groups of individuals, such as hunting or trapping clubs. We cannot exclude any group or individual from reporting information that they believe may be related to this information collection. The commenter did not address the appropriateness of the information or the burden hours. Therefore, we have not made any changes to our information collection requirements.

Section 9 of the Endangered Species Act of 1973 (ESA) describes prohibited acts involving threatened or endangered species (16 U.S.C. 1538(a)(1)(B)). Information collection and reporting to the Service is required for some experimental populations established under section 10(j) of the Endangered Species Act of 1973 (ESA), as amended. We collect three major categories of information under the experimental population regulations (50 CFR 17.84):

(1) General take or removal. General take or removal information refers to human-related mortality including unintentional taking incidental to otherwise lawful activities (e.g., highway mortalities), take in defense of human life, take related to defense of property (if authorized), or take in the form of authorized harassment. Most contacts related to this type of information collection are sightings of experimental animals or the inadvertent discovery of an injured or dead individual.

(2) Depredation-related take. Depredation-related take refers to take for management purposes where livestock depredation has been documented and may include authorized harassment or lethal take of experimental animals in the act of attacking livestock. The information collected for this type of take is necessary for follow-up reports after the Service has authorized harassment or lethal take of experimental animals in relation to confirmed instances of livestock depredation or in defense of human life.

(3) Collection of specimens or the recovery of dead animals that are part of an experimental population. Specimen collection is for the purpose of documenting incidental or authorized scientific collection. Most of the information collection requirements for this take pertain primarily to the reporting of sightings of experimental population animals or the inadvertent discovery of an injured or dead individual. The information collected is necessary for follow-up reports when we have authorized take of experimental animals for specimen collection.

Because individuals of designated experimental populations for species listed as threatened or endangered under the ESA are categorically protected, documentation of human-related mortalities, recovery of dead specimens, and other types of take related to the status of experimental populations are important for monitoring the success of reintroduction efforts and recovery efforts in general. To minimize potential conflict with humans, which could undermine recovery efforts, livestock depredations connected with some experimental populations of listed species require prompt attention to (1) determine the location, timing, and nature of the predatory behavior involved, (2) accurately determine the species responsible for a livestock kill, and (3) apply necessary control measures.

In cooperation with the United States Department of Agriculture, Animal Plant and Health Inspection Service, Division of Wildlife Services, or other cooperating Federal agencies, we rely on prompt public reporting of depredation in order to resolve livestock related problems. Therefore, a time sensitive requirement for reporting problems (generally within 24 hours) to the appropriate Service office is necessary. Cooperating Federal agencies provide the vast majority of the information collected by the Service as a result of experimental population regulations. However, some of the information is provided by the public. Information collection is achieved primarily by means of telephone calls from members of the public to Service offices specified in the individual regulations (some may choose to use facsimile or electronic mail). Reporting parties include, but are not limited to, individuals or households, farms, businesses, and other nonprofit organizations. We collect the following information:

(a) Name, address, and phone number of the reporting party.

(b) Type of incident.

(c) Location and time of the incident.

(d) Species of experimental population involved.

(e) Description of circumstances related to the incident.

The reporting of specimen collections, recovery, and dead individuals from experimental populations is important to our efforts to monitor these individuals and for other scientific purposes. Because the number of reports generated annually by the general public (rather than cooperating agencies or separately permitted individuals) under the experimental population regulations is extremely small (far less than one report per year, per rule) and to assure thorough documentation of results, we estimate the number of expected reports to assume a maximum number per year based on allowance for increased population size and public awareness of experimental populations. Several of the existing experimental populations described under 50 CFR 17.84 contain information collection requirements. This information collection would also apply to any future experimental populations that become established that require the same types of reports as listed above.

Title: Endangered and Threatened Wildlife, 50 CFR 17.84, Experimental populations.

OMB Control Number: 1018-0095.

Form Numbers: None.

Frequency: Occasionally.

Description of Respondents: Private individuals, households, businesses, nonprofit organizations, and farms.

Total Annual Responses: 62.

Total Annual Burden Hours: 15.5 hours.

Type of report | Number of respondents | Average time required per report (minutes) | Total annual burden (hours)
General take or removal | 20 | 15 | 5
Depredation related take | 22 | 15 | 5.5
Specimen collection | 20 | 15 | 5

We again invite comments concerning this information collection on: (1) Whether or not the collection of information is necessary for the proper performance of our native endangered and threatened species management functions, including whether or not the information will have practical utility; (2) the accuracy of our estimate of the burden of the collection of information; (3) ways to enhance the quality, utility, and clarity of the information to be collected; and, (4) ways to minimize the burden of the collection of information on respondents. The information collections in this program are part of a system of records covered by the Privacy Act (5 U.S.C. 552(a)).

Dated: October 20, 2004.
Hope Grey,
Information Collection Clearance Officer, Fish and Wildlife Service.

[FR Doc. 04-24207 Filed 10-28-04; 8:45 am]

BILLING CODE 4310-55-P